DEPARTMENT OF COMMERCE

National Oceanic and Atmospheric Administration

RIN 0648-XE456

Pacific Fishery Management Council; Notice of Intent To Prepare an Environmental Impact Statement

AGENCY: National Marine Fisheries Service (NMFS), National Oceanic and Atmospheric Administration (NOAA), Commerce.

ACTION: Notice of intent to prepare an environmental impact statement (EIS); request for comments.

SUMMARY: NMFS and the Pacific Fishery Management Council (Council) announce their intent to prepare an EIS in accordance with the National Environmental Policy Act (NEPA) of 1969 to analyze the impacts on the human (biological, physical, social, and economic) environment of gear changes in the Pacific Coast Groundfish Fishery's Trawl Catch Share Program, also called the Trawl Rationalization Program. This notice also requests written comment.

DATES: Public scoping will be conducted through this notice. Comments must be received by 5 p.m. Pacific Standard Time on April 4, 2016 (see SUPPLEMENTARY INFORMATION).

ADDRESSES: You may submit comments on issues and alternatives by any of the following methods:

• Email: groundfish.gearEIS@noaa.gov.

• Mail: Submit written comments to William W. Stelle, Jr., Regional Administrator, West Coast Region, NMFS, 7600 Sand Point Way NE., Seattle, WA 98115-0070; Attn: Jamie Goen.

Instructions: Comments sent by any other method, to any other address or individual, or received after the end of the comment period, may not be considered by NMFS.

FOR FURTHER INFORMATION CONTACT: Jamie Goen, NMFS West Coast Region at 206-526-4656 or jamie.goen@noaa.gov.

SUPPLEMENTARY INFORMATION:

Background for Agency Action

There are more than 90 species managed under the Pacific Coast Groundfish Fishery Management Plan (Groundfish FMP). These groundfish stocks support an array of commercial, recreational, and tribal fishing interests in state and Federal waters off the coasts of Washington, Oregon, and California. In addition, groundfish are harvested incidentally in non-groundfish fisheries; most notably, the trawl fisheries for pink shrimp and California halibut.

The Trawl Catch Share Program was implemented in 2011, changing how the groundfish limited entry trawl fishery is managed. The Trawl Catch Share Program replaced the need for some, but not all, of the trip-limit structure in Federal regulations, and modified regulations for the at-sea fleets. Some of the remaining pre-Trawl Catch Share Program regulations may unnecessarily constrain harvest efficiency and effectiveness under a catch share framework. Pre-Trawl Catch Share Program regulations that managed the fleet as a whole may need to be updated or may no longer be appropriate for managing individuals operating under the incentives provided by catch shares.

Proposed Action

The proposed action is to revise groundfish gear regulations for the Trawl Catch Share Program, including trawl gear configuration and gear use. The proposed action may include the following gear regulation changes:

• Loosening or eliminating the minimum mesh size requirement for bottom trawl;

• Updating the procedure for measuring mesh sizes;

• Loosening or eliminating cod-end regulations;

• Loosening or eliminating selective flatfish trawl gear requirements and restrictions (Large and small footrope distinctions would remain.);

• Loosening or eliminating chafing gear regulations;

• Allowing vessels to carry and/or use multiple gear types on a single trip;

• Allowing a gear to be fished in multiple management areas on the same trip; and

• Allowing a vessel's next gear deployment to start before all fish from the previous deployment have been stowed.

The proposed action may affect fishing in the Trawl Catch Share Program by any or all of the gear types that participate in the fishery, including bottom trawl (small and large footrope), midwater trawl, and legal groundfish nontrawl gear. The intent of the proposed action is to further the goals of Amendment 20 to the Groundfish FMP and the Trawl Catch Share Program consistent with Magnuson-Stevens Fishery Conservation and Management Act requirements and other applicable laws.

Alternatives

NEPA requires that agencies evaluate reasonable alternatives to the proposed action, which address the purpose and need for agency action. The Council adopted a preliminary range of alternatives for analysis and public review at its September 2015 meeting, and further refined the range at its November 2015 meeting.

The range of alternatives for this action are organized within eight gear-related issues (Issue A through Issue H) and parallel the bulleted list in the “Proposed Action” section. The range of alternatives for each issue is described below. The Council is currently scheduled to select a final preferred alternative at its March 8-14, 2016, meeting. However, there is a possibility that final Council decision-making could occur at its April or June meetings.

Issue A—Minimum Mesh Size

Mesh size requirements are intended to reduce the catch of juvenile and small unmarketable fish. This action would change the minimum mesh size for bottom trawl and midwater trawl. Alternative A1 (No-action) would continue to be 4.5 inches for bottom trawl and 3 inches for midwater trawl. Alternative A2 would shift the minimum mesh size to 4 inches for bottom trawl only. Alternative A3 would not specify a minimum mesh size for bottom trawl or midwater trawl.

Issue B—Measuring Mesh Size

The alternatives under Issue B apply to how mesh size is measured and could apply to any of the minimum mesh size alternatives under Issue A. Alternative B1 (No-action) would continue to measure trawl mesh size between the inside of the one knot to the inside of the opposing knot, regardless of twine size. Alternative B2 would measure the opening between opposing knots or, in knotless webbing, between opposing corners, regardless of twine size.

Issue C—Codend

The codend is the terminal, closed end of a trawl net. Alternative C1 (No-action) would require only single-walled codends in any trawl. Double-walled codends would still be prohibited. Alternative C2 would remove codend restrictions from Federal regulations.

Issue D—Selective Flatfish Trawl

Selective flatfish trawl (SFFT) is a type of small footrope trawl. Alternative D1 (No-action) would require a two-seamed net with no more than two riblines, excluding the codend. The breastline would remain no longer than 3 feet. No floats along the center third of the headrope or attached to the top panel would be allowed, except on riblines. The footrope would be less than 105 feet long. The headrope would not be less than 30 percent longer than the footrope under this alternative. The areas fished with SFFT are as follows (§ 660.130(c)(2)(i)):

• North of 40°10′ N. latitude, selective flatfish gear is required shoreward of the Rockfish Conservation Area (RCA).

• South of 40°10′ N. latitude, selective flatfish gear is permitted, but not required, shoreward of the RCA.

• The use of selective flatfish trawl gear is permitted seaward of the RCA coastwide.

Alternative D2 would modify the SFFT definition to allow a two-seam or a four-seam net. Areas fished would remain as stated in the No-action Alternative.

Alternative D3 would modify the SFFT definition to allow a two-seam or a four-seam net. The SSFT requirement shoreward of the RCA north of 40°10′ N. latitude would be eliminated. It would be replaced with a small footrope requirement (like the requirement south of 40°10′ N. latitude). Requirements shoreward of the RCA south of 40°10′ N. latitude and seaward of the RCA coastwide would remain as stated in the No-action Alternative.

Issue E—Chafing Gear

Chafing gear is webbing or other material attached to the codend to protect it from wear. The decision on codends under Issue C (Alternatives C1 and C2) may affect the issue of chafing gear should Alternative C2 be chosen. Alternative C2 would allow double-walled codends, and chafing gear could be used to create a double-walled codend.

Alternative E1 (No-action) would continue to have chafing gear for bottom trawl encircle no more than 50 percent of the net's circumference and could be in one or more sections. It could be used on only the last 50 meshes, measured from the terminal edge (closed end) of the codend. Only the front edge (that closest to the open end of the codend) and sides of each section of chafing gear could be attached to the codend. Except at the corners, the terminal edge (that edge closest to the closed end of the codend) of each section of chafing gear could not be attached to the net. The chafing gear would have to be attached outside of any riblines and restraining straps.

Alternative E2 would align bottom trawl chafing gear restrictions with recent changes to midwater trawl chafing gear restrictions specified in regulation at 50 CFR 660.130(b)(4)(i) and (ii). These changes would allow the chafing gear to cover more of the codend than the No-action Alternative. Generally, the bottom trawl chafing gear restriction would be revised to read as follows:

Chafing gear may cover the bottom and sides of the codend in either one or more sections. Only the front edge (edge closest to the open end of the codend) and sides of each section of chafing gear may be attached to the codend; except at the corners, the terminal edge (edge closest to the closed end of the codend) of each section of chafing gear must not be attached to the net. Chafing gear is not permitted on the top codend panel except that a band of mesh (a “skirt”) may encircle the net under or over transfer cables, lifting or splitting straps (chokers), riblines, and restraining straps, but must be the same mesh size and coincide knot-to-knot with the net to which it is attached and be no wider than 16 meshes.

Alternative E3 would eliminate chafing gear restrictions for bottom trawl and midwater trawl gear. Chafing gear could be used, but regulations would not restrict how much of the codend or net it covers nor where it is connected to the net.

Issue F—Multiple Gears

A vessel may carry a number of different gears while participating in the groundfish trawl sector. This issue considers allowing multiple types of fishing gear on the vessel during a single trip. The term “fixed gear” as used in Issue F is shorthand for all legal groundfish non-trawl gear. Under the gear switching provision in the Shorebased Individual Fishing Quota (IFQ) Program, several fixed gears are permissible. As stated in the regulations at § 660.130(k) on gear switching, participants can also fish for IFQ species “using any legal groundfish non-trawl gear.” Referring to the definitions section at § 660.11 in Federal regulations, legal groundfish non-trawl gear includes non-trawl gear used by both the limited entry fixed gear and open access fisheries as follows:

• Longline,

• trap or pot,

• set net (anchored gillnet or trammel net, which are permissible south of 38° N. lat. only),

• hook-and-line (fixed or mobile, including commercial vertical hook-and-line), and

• spear.

Alternative F1 (No-action) would restrict vessels to one type of trawl gear (bottom or midwater) onboard per trip. For bottom trawl gear, both small footrope and large footrope could be on the vessel and fished during a single fishing trip. Multiple fixed gear types would be allowed onboard each trip. Trawl gear and fixed gear would not be permitted onboard during the same trip. Only one type of gear can be fished per trip.

Alternative F2 would allow multiple trawl gear types (bottom and midwater) onboard on the same trip. The same as under the No-action Alternative, multiple fixed gear types would be allowed onboard during each trip. Trawl vessels would not be allowed to have trawl and fixed gear onboard on the same trip. Vessel operators could use only one gear type per trip (bottom trawl, midwater trawl, or fixed gear). For bottom trawl gear, both small footrope and large footrope could be fished during a single fishing trip.

Alternative F3 would allow multiple gear types onboard on the same trip. In addition, they could be used on the same trip as follows:

• Gear Type Sub-option A: Any trawl gear could be used (bottom and midwater).

• Gear Type Sub-option B: Any legal IFQ groundfish gear could be used.

• Sorting Sub-option A: Vessel operators must separate catch by gear type. Landings must be recorded on a separate electronic fish ticket by gear type.

• Sorting Sub-option B: Catch by gear type could be comingled.

Under Alternative F3, gear type sub-options would be independent of sorting options.

Issue G—Fishing in Multiple IFQ Management Areas

The Shorebased IFQ Program includes IFQ management areas, specified in regulation at § 660.140(c)(2), that are based on the stock information for select species, harvest allocations, and the corresponding quota share for species. The IFQ management areas are as follows:

• Between the U.S./Canada border and 40°10′ N. latitude,

• Between 40°10′ N. latitude and 36° N. latitude,

• Between 36° N. latitude and 34°27′ N. latitude, and

• Between 34°27′ N. latitude and the U.S./Mexico border.

Alternative G1 (No-action) would maintain the restriction that vessels participating in the Shorebased IFQ Program may not fish in more than one IFQ management area on the same trip.

Alternative G2 would allow fishing in multiple IFQ management areas on the same trip. This would create opportunities to shift from one management area to another during a fishing trip. If retaining catch from multiple IFQ management areas on a single trip, then the catch would have to be sorted by IFQ management area and recorded on separate electronic fish tickets.

Issue H—Fishing Before Previous Catch Is Stowed

To track catch accurately to the haul level, regulations require previous catch to be stowed before a new haul is brought onboard the vessel. Alternative H1 (No-action) would continue to prohibit vessels in the Shorebased IFQ Program from bringing a haul on board before all catch from the previous haul has been stowed. Alternative H2, in the Shorebased IFQ Program, would allow a new haul to be brought onboard and dumped on deck before all catch from the previous haul has been stowed. Catch from different hauls would have to be kept separate until the observers could complete their collection of catch for sampling.

Preliminary Identification of Environmental Issues

A principal objective of the scoping and public input process is to identify potentially significant impacts to the human environment that should be analyzed in depth in the EIS. If, during the preparation of this EIS, NMFS determines that a finding of no significant impact can be supported, it may prepare an Environmental Assessment (EA) and issue a retraction of this notice. Alternatively, NMFS may still continue with the preparation of an EIS. Information and analysis prepared for this action also may be used when scoping future groundfish actions to help decide whether to prepare an EA or EIS.

Some alternatives may have significant impacts on the human environment. The proposed action to change mesh size, change codend restrictions, and eliminate selective flatfish trawl gear may negatively impact some species listed under the Endangered Species Act (ESA), including salmon and eulachon. In addition, there may be an impact on stock productivity for many species if changing the trawl mesh size or removing codend restrictions causes smaller fish to be harvested. There may be increased uncertainty in total mortality estimates for all species from allowing multiple gears to be fished during a trip. The EIS will also consider the cumulative effects of the proposed action with any past, present or reasonably foreseeable future actions. In particular, the gear changes in the Trawl Catch share Program will need to be considered in light of upcoming changes to monitoring with electronic monitoring and changes to habitat and overfished species protections with Essential Fish Habitat and RCA actions. Through the public scoping process and as the EIS is drafted, additional potentially significant impacts may be identified.

Request for Comments

NMFS provides this notice to: (1) Advise the public and other agencies of its plans to analyze effects related to the action, and (2) obtain suggestions and information that may be useful to the scope of issues and the full range of alternatives to include in the EIS.

NMFS invites comment from all interested parties to ensure that the full range of issues related to gear changes in the Pacific Coast Groundfish Fishery's Trawl Catch Share Program are identified. NMFS is specifically inviting comments on the proposed alternatives described above. In addition, NMFS invites comments on the potential impacts of these alternatives and further details of how fishermen are likely to operate under these alternatives. For example, NMFS invites comments on the potential impacts of the alternatives given changes being considered by the Council on electronic monitoring, essential fish habitat, and rockfish conservation areas. Comments should be as specific as possible.

Written comments concerning the proposed action and the environmental review should be directed to NMFS as described above (see ADDRESSES). All comments and materials received, including names and addresses, will become part of the administrative record and may be released to the public.

Public Scoping Process

Public scoping will be conducted through this notice. In addition, further participation by the public will occur throughout the Council's decision-making process. All decisions during the Council process benefit from written and oral public comments delivered prior to or during the Council meeting. These public comments are considered integral to scoping for developing this EIS. Future Council meetings that offer opportunities for public involvement include the March 8-14, 2016, meeting in Sacramento, California (DoubleTree by Hilton Sacramento, 2001 Point West Way, Sacramento, CA 95815). Other future opportunities for public involvement may arise and will be posted in the Council Briefing Book (on the Council's Web site (http://www.pcouncil.org/council-operations/briefing-books/) prior to the meeting. For further information on these meetings, visit the Council's Web site, http://www.pcouncil.org/council-operations/council-meetings/future-meetings/.

Special Accommodations

The Council meetings are physically accessible to people with disabilities. Requests for sign language interpretation or other auxiliary aids should be directed to Kris Kleinschmidt at Kris.Kleinschmidt@noaa.gov or (503) 820-2280 at least 5 days prior to the meeting date.

Authority: 16 U.S.C. 1801 et seq.

Dated: February 26, 2016.
Emily H. Menashes,
Acting Director, Office of Sustainable Fisheries, National Marine Fisheries Service.

[FR Doc. 2016-04612 Filed 3-2-16; 8:45 am]

BILLING CODE 3510-22-P